DEPARTMENT OF TRANSPORTATION

Federal Railroad Administration

[Docket No. FRA-2020-0004-N-1]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before May 15, 2020.

ADDRESSES: Submit written comments on the ICRs activities by mail to either: Ms. Hodan Wells, Information Collection Clearance Officer, Office of Railroad Safety, Regulatory Analysis Division, Federal Railroad Administration, 1200 New Jersey Avenue SE, Washington, DC 20590; or Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to 202-493-6216 or 202-493-6497, or emailed to Ms. Wells at hodan.wells@dot.gov, or Ms. Toone at kim.toone@dot.gov. Please refer to the assigned OMB control number in any correspondence submitted. FRA will summarize comments received in response to this notice in a subsequent notice and include them in its information collection submission to OMB for approval.

FOR FURTHER INFORMATION CONTACT: Ms. Hodan Wells, Information Collection Clearance Officer, Office of Railroad Safety, Regulatory Analysis Division, Federal Railroad Administration, 1200 New Jersey Avenue SE, Washington, DC 20590 (telephone: (202) 493-0440) or Ms. Kim Toone, Information Collection Clearance Officer, Office of Information Technology, Federal Railroad Administration, 1200 New Jersey Avenue SE, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Railroad Communications.

OMB Control Number: 2130-0524.

Abstract: This collection of information is used by FRA to promote safety in rail operations and to ensure compliance by railroads and their employees with all the requirements set forth in 49 CFR part 220. FRA amended its radio standards and procedures to promote compliance by making the regulations more flexible; require wireless communications devices, including radios, for specified classifications of railroad operations and roadway workers; and retitle this part to reflect its coverage of other means of wireless communications such as cellular telephones and data radio terminals, to convey emergency and need-to-know information. The amended rule established safe, uniform procedures covering the use of radio and other wireless communications within the railroad industry.

Type of Request: Extension with change (revised estimates) of a currently approved collection.

Affected Public: Businesses.

Form(s): N/A.

Respondent Universe: 746 railroads.

Frequency of Submission: On occasion.

Reporting Burden:

CFR section | Respondent universe | Total annual responses | Average time per responses | Total annual burden hours | Total cost equivalent ¹
220.8—Waivers and petitions | 746 railroads | 2 petition letters | 1 hour | 2 | $152
220.61(b)—Transmission of mandatory directive | 746 railroads | 3,800,000 directives | 90 seconds | 95,000 | 7,220,000
(b)(5)—Marking of fulfilled or canceled mandatory directives | 746 railroads | 396,000 marks | 10 seconds | 1,100 | 83,600
220.313(a)—Railroad written program of instruction and examination on part 220 requirements | 2 new railroads | 2 amended written instruction programs | 1 hour | 2 | 152
220.313(c)—Employee training records | 746 railroads | 2,000 records | 30 seconds | 17 | 1,292
Total | 746 railroads | 4,119,004 responses | NA | 95,902 | 7,288,552
¹ The dollar equivalent cost throughout this document is derived from the Surface Transportation Board's Full Year Wage A&B data series using the appropriate employee group hourly wage rate that includes a 75-percent overhead charge.

Total Estimated Annual Responses: 4,119,004.

Total Estimated Annual Burden: 95,902 hours.

Total Estimated Annual Burden Hour Dollar Cost Equivalent: $7,288,552.

Title: Passenger Train Emergency Systems.

OMB Control Number: 2130-0576.

Abstract: This information collection is due to passenger train emergency systems regulations under 49 CFR part 238. The purpose of this part is to prevent collisions, derailments, and other occurrences involving railroad passenger equipment that cause injury or death to railroad employees, railroad passengers, or the general public, and to mitigate the consequences of such occurrences to the extent they cannot be prevented.

In its final rule issued on November 29, 2013 (see 78 FR 71785), FRA added requirements for emergency passage through vestibule and other interior passageway doors and enhanced emergency egress and rescue signage requirements. FRA also established requirements for low-location emergency exit path markings to assist occupants in reaching and operating emergency exits, particularly under conditions of limited visibility. Moreover, FRA added standards to ensure emergency lighting systems are provided in all passenger cars and enhanced requirements for the survivability of emergency lighting systems in new passenger cars.

Type of Request: Extension with change (revised estimates) of a currently approved collection.

Affected Public: Businesses (railroads).

Form(s): N/A.

Respondent Universe: 34 railroads.

Frequency of Submission: On occasion.

Reporting Burden:

CFR section | Respondent universe | Total annual responses | Average time per responses | Total annual burden hours | Total cost equivalent
238.112—Door emergency egress and rescue access systems: | 34 railroads | 2,250 markings/signs/instructions | 5 minutes | 187.5 | $14,250
—Markings, signage, instructions
(e)—Passenger car exterior doors intended for emergency access by responders marked with retro-reflective material and instructions provided for their use | 34 railroads | 2,250 exterior door markings | 5 minutes | 187.5 | 14,250
(f)(5)—Markings and instructions—interior doors/removable panels or windows | 34 railroads | 1,500 marked panels/windows | 5 minutes | 125 | 9,500
238.113(d)—Emergency window exits—Markings/and instructions | 34 railroads | 60 window markings | 15 minutes | 15 | 1,140
238.114(d)—Rescue access windows—Markings with retro-reflective material on each exterior car | 34 railroads | 1,500 access window markings | 5 minutes | 125 | 9,500
238.121(b)—Emergency communications—Marking of each intercom intended for passenger use on new Tier I & Tier II passenger cars | 34 railroads | 375 marked intercom locations | 5 minutes | 31.3 | 2,379
238.123(e)—Marked emergency roof access locations | 34 railroads | 375 marked emergency roof access locations | 30 minutes | 187.5 | 14,250
Total | 34 railroads | 8,310 responses | NA | 859 | 65,269

Total Estimated Annual Responses: 8,310.

Total Estimated Annual Burden: 859 hours.

Total Estimated Annual Burden Hour Dollar Cost Equivalent: $65,269.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2020-05272 Filed 3-13-20; 8:45 am]

BILLING CODE 4910-06-P